DEPARTMENT OF ENERGY

Federal Energy Regulatory Commission

[Docket No. CP03-39-000]

Kinder Morgan Interstate Gas Transmission, LLC; Notice of Application

January 28, 2003.

On January 16, 2003, Kinder Morgan Interstate Gas Transmission, LLC, (KMIGT), located at 370 Van Gordon Street, Lakewood, Colorado, filed an application in the above referenced docket, pursuant to section 7(c) of the Natural Gas Act (NGA), and part 157of the Federal Energy Regulatory Commission's (Commission) Rules and Regulations for a certificate of public convenience and necessity authorizing KMIGT to construct and operate facilities necessary to develop its Cheyenne Market Center Service. To accomplish this, KMIGT proposes to construct (1) Two 3,550 horsepower compressor units and ten injection/withdrawal wells at the Huntsman Storage Field; (2) two 1,680 horsepower compressor units at the Rockport Compressor Station; (3) two 1,151 horsepower compressor units at the Kimball Junction Interconnect in Kimball County, Nebraska; (4) approximately 3,700 feet of 8 and 12-inch pipeline; and (5) certain section 2.55(a) facilities. These new facilities will create incremental storage capacity up to 6,000,000 Dth, with an associated withdrawal deliverability of approximately 62,400 Dth/d. It is estimated the facilities will cost approximately $26,905,570. This filing is available for review at the Commission in the Public Reference Room or may be viewed on the Commission's Web site at http://www.ferc.gov using the “FERRIS” link. Enter the docket number excluding the last three digits in the docket number field to access the document. For assistance, contact FERC at FERCOnlineSupport@ferc.gov or call toll-free, (866) 208-3676, or for TTY, (202) 502-8659.

Any questions regarding this application should be directed to Skip George, Manager of Certificates, Kinder Morgan Interstate Gas Transmission, LLC, PO Box 281304, Lakewood, Colorado 80228-8304, telephone (303) 914-4969.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding. with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Protests and interventions may be filed electronically via the Internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: February 18, 2003.

Magalie R. Salas,
Secretary.

[FR Doc. 03-2381 Filed 1-31-03; 8:45 am]

BILLING CODE 6717-01-P